DEPARTMENT OF DEFENSE

Office of the Secretary

[Transmittal No. 24-76]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-76, Policy Justification.

Dated: November 18, 2025.
Aaron T. Siegel,
Alternate OSD Federal Register Liaison Officer, Department of Defense.

BILLING CODE 6001-FR-P

BILLING CODE 6001-FR-C

Transmittal No. 24-76

Notice of Proposed Issuance of Letter of Offer Pursuant to Section 36(b)(1) of the Arms Export Control Act, as amended

(i) Prospective Purchaser: Government of the Netherlands

(ii) Total Estimated Value:

Major Defense Equipment * | $ 0
Other | $305 million
TOTAL | $305 million

(iii) Description and Quantity or Quantities of Articles or Services under Consideration for Purchase: The Government of the Netherlands has requested to buy training in support of its CH-47 and AH-64 helicopter fleet.

Major Defense Equipment (MDE):

None

Non-Major Defense Equipment: The following non-MDE items will also be included: training ammunition; Army Supply Class Items I-VI and VIII-X; information technology (IT) equipment; ground components; parts and accessories; Installation Management Command (IMCOM)-related service support; U.S. Government and contractor personnel assistance; miscellaneous service contract support; and other related elements of logistics and program support.

(iv) Military Department: Army (NE-B-YCA, NE-B-YCB, NE-B-YCC)

(v) Prior Related Cases, if any: NE-B-WJN, NE-B-WJO, and NE-B-WJP

(vi) Sales Commission, Fee, etc., Paid, Offered, or Agreed to be Paid: None

(vii) Sensitivity of Technology Contained in the Defense Article or Defense Services Proposed to be Sold: None

(viii) Date Report Delivered to Congress: August 19, 2024

* as defined in Section 47(6) of the Arms Export Control Act.

POLICY JUSTIFICATION

Netherlands—CH-47 and AH-64 Helicopter Training

The Government of the Netherlands has requested to buy training in support of its CH-47 and AH-64 helicopter fleet. Included is training ammunition; Army Supply Class I-VI and VIII-X items; information technology (IT) equipment; ground components; parts and accessories; Installation Management Command (IMCOM)-related service support; U.S. Government and contractor personnel assistance; miscellaneous service contract support; and other related elements of logistics and program support. The estimated total cost is $305 million.

This proposed sale will support the foreign policy goals and national security objectives of the United States by improving the security of a NATO Ally that is a force for political stability and economic progress in Europe.

The proposed sale will improve the Netherlands' capability for continued CH-47 and AH-64 helicopter training activities at Fort Cavazos, Texas. Fort Cavazos hosts personnel and equipment from the Royal Netherlands Air Force 302 Squadron. This training includes the AMERICAN FALCON exercise, which serves as a certifying event for Dutch military units and personnel to deploy abroad, who often support U.S.-led coalition operations.

The proposed sale of this equipment and support will not alter the basic military balance in the region.

A principal contractor is not associated with this proposed sale. There are no known offset agreements proposed in connection with this potential sale.

Implementation of this proposed sale will not require the assignment of any additional U.S. Government or contractor representatives to the Netherlands.

There will be no adverse impact on U.S. defense readiness as a result of this proposed sale.

[FR Doc. 2025-20423 Filed 11-19-25; 8:45 am]

BILLING CODE 6001-FR-P